DEPARTMENT OF TRANSPORTATION

National Highway Traffic Safety Administration

[Docket No. NHTSA 2003-14371; Notice 1]

Cooper Tire & Rubber Company; Receipt of Application for Decision of Inconsequential Noncompliance

Cooper Tire & Rubber Company (Cooper) has determined that certain Mastercraft Avenger GT brand tires in the P275/60R15 size do not meet the labeling requirements mandated by Federal Motor Vehicle Safety Standard (FMVSS) No. 109, “New Pneumatic Tires.” Pursuant to 49 U.S.C. 30118(d) and 30120(h), Cooper has petitioned for a determination that this noncompliance is inconsequential to motor vehicle safety and has filed an appropriate report pursuant to 49 CFR Part 573, “Defect and Noncompliance Reports.”

This notice of receipt of an application is published under 49 U.S.C. 30118 and 30120 and does not represent any agency decision or other exercise of judgment concerning the merits of the application.

The noncompliance with S4.3(e) relates to the mold number. The Findlay, Ohio tire manufacturing facility had one (1) Mold involved in production during the twenty-third and thirty-second production weeks of 2002 in which one size designation was incorrectly stated. The subject tires were molded with the correct size designation P275/60R15 on both upper sidewalls and on the lower sidewall area on the DOT serial number side. However, on the side opposite the DOT serial number, they were stamped with an incorrect size designation of P275/80R15 in the lower sidewall area.

The incorrect size designation was removed from the mold and the correct side designation inserted; however, prior to the mold being correctly stamped, 5,706 tires were inadvertently shipped marked with the one incorrect size designation.

Cooper states that the incorrect size designation on each tire does not present a safety-related defect. The incorrect marking is the series designation. In the two most prominent locations and the serial side of the tire, the series designation is correct. Additionally, there is not a P275/15 manufactured in an 80 series. The noncompliant tires produced from the involved mold during the aforementioned production periods comply with all other requirements of 49 CFR 571.109.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: March 7, 2003.

(49 U.S.C. 301118, 301120; delegations of authority at 49 CFR 1.50 and 501.8)

Issued on: January 30, 2003.
Stephen R. Kratzke,
Associate Administrator for Rulemaking.

[FR Doc. 03-2701 Filed 2-4-03; 8:45 am]

BILLING CODE 4910-59-U